DEPARTMENT OF THE INTERIOR

Bureau of Land Management

Emergency Temporary Closure for All Motorized Vehicles on Public Land in the Silver Creek Ridge Area, Sublette County, WY

AGENCY: Bureau of Land Management, Interior.

ACTION: Notice; correction.

SUMMARY: The Bureau of Land Management published a notice in the Federal Register of October 1, 2001, concerning the closure of the Silver Creek Ridge area to all motorized vehicles. The notice contained an incorrect legal description.

FOR FURTHER INFORMATION CONTACT: Bill Wadsworth (307) 367-5341.

Correction

In the Federal Register of October 1, 2001, in FR Doc. 01-2447 on page 49973, in the third column, 2nd paragraph under the SUPPLEMENTARY INFORMATION, correct the legal description to read:

T. 32 N., R. 107 W., Section 24, E½

Dated: October 3, 2001.
Priscilla Mecham,
Field Manager.

[FR Doc. 01-25562 Filed 10-10-01; 8:45 am]

BILLING CODE 4310-DN-M